FEDERAL COMMUNICATIONS COMMISSION

47 CFR Part 73

[DA 01-1291; MM Docket No. 01-38; RM-10064]

Radio Broadcasting Services; Macon, MS.

AGENCY: Federal Communications Commission

ACTION: Final rule.

SUMMARY: At the request of Radio South, Inc., this document removes Channel 263A from Macon, Mississippi. This will enable Station WLXY, Northport, Alabama, to upgrade to a Class C1 allotmnent. See 66 FR 14513, published March 13, 2001.

DATES: Effective July 10, 2001.

FOR FURTHER INFORMATION CONTACT: Robert Hayne, Mass Media Bureau, (202) 418-2177.

SUPPLEMENTARY INFORMATION: This is a synopsis of the Commission's Report and Order in MM Docket No. 01-38, adopted May 16, 2001, and released May 25, 2001. The full text of this decision is available for inspection and copying during normal business hours in the FCC's Reference Information Center at Portals II, CY-A257, 445 12th Street, SW., Washington, DC. The complete text of this decision may also be purchased from the Commission's copy contractor, International Transcription Service, Inc., (202) 857-3800, 1231 20th Street, NW., Washington, DC 20036.

List of Subjects in 47 CFR Part 73

Radio Broadcasting.

Part 73 of Title 47 of the Code of Federal Regulations is amended as follows:

PART 73—RADIO BROADCAST SERVICES

1. The authority citation for Part 73 continues to read as follows:

Authority: 47 U.S.C. 154, 303, 334 and 336.

§ 73.202 [Amended]

2. Section 73.202(b), the Table of FM Allotments under Mississippi, is amended by removing Macon, Channel 263A.

Federal Communications Commission.
John A. Karousos,
Chief, Allocations Branch, Policy and Rules Division, Mass Media Bureau.

[FR Doc. 01-14805 Filed 6-11-01; 8:45 am]

BILLING CODE 6712-01-U